DEPARTMENT OF THE TREASURY

Internal Revenue Service

26 CFR Part 301

[TD 9460]

RIN 1545-BD67

Declaratory Judgments—Gift Tax Determinations; Correction

AGENCY: Internal Revenue Service (IRS), Treasury.

ACTION: Correction to final regulations.

SUMMARY: This document contains corrections to final regulations (TD 9460) that were published in the Federal Register on Wednesday, September 9, 2009 (74 FR 46347) regarding petitions filed with the United States Tax Court for declaratory judgments with respect to the valuation of gifts.

FOR FURTHER INFORMATION CONTACT: Juli Ro Kim or George Masnik, (202) 622-3090 (not a toll free number).

SUPPLEMENTARY INFORMATION:

Background

The final regulations (TD 9460) that are the subject of these corrections are under section 7477 of the Internal Revenue Code.

Need for Correction

As published, the final regulations (TD 9460) contain errors that may prove to be misleading and are in need of clarification.

Correction of Publication

Accordingly, the final regulations (TD 9460), that are the subject of FR Doc. E9-21458, are corrected as follows:

1. On page 46347, in the preamble, column 1, under the caption “For Further Information Contact”, line 1, the language “Deborah S. Ryan” is corrected to read “Juli Ro Kim”.

2. On page 46347, in the preamble, column 3, under the paragraph heading “Drafting Information”, line 2, the language “regulations are Deborah Ryan and Juli” is corrected to read “regulations are George Masnik and Juli”.

LaNita VanDyke,
Chief, Publications and Regulations Branch, Legal Processing Division, Associate Chief Counsel (Procedure and Administration).

[FR Doc. E9-25739 Filed 10-26-09; 8:45 am]

BILLING CODE 4830-01-P